Proclamation 7913 of July 15, 2005

Captive Nations Week, 2005

By the President of the United States of America

A Proclamation

America stands for freedom and supports those who are oppressed. During Captive Nations Week, we reaffirm our commitment to advancing democracy, defending liberty, and protecting human rights around the world.

When President Eisenhower issued the first Captive Nations Week proclamation in 1959, freedom was being denied by communist regimes in Europe, Asia, and Latin America. Millions were deprived of their rights to freely practice religion, assemble in public, and exercise freedom of speech. The Cold War and the captivity of millions of people in Central and Eastern Europe have since ended, and we have witnessed the rise of democratic governments in countries across the globe.

Building a free and peaceful world is the work of generations, and this work continues. America believes that freedom is God's gift to each man and woman in this world and that spreading freedom's blessings is the calling of our time. We are continuing to work to help spread liberty and democracy to people who have known fear and oppression. The gains in places like Afghanistan, Iraq, Ukraine, and Georgia have been achieved through the courage, determination, and sacrifice of millions of men and women in those countries, with the assistance of the United States and other allies.

As a Nation forged from the ideals of freedom, justice, and human dignity, we will continue speaking out on behalf of oppressed people. We will support the growth of democratic movements and institutions in every nation. This young century will be liberty's century, and during Captive Nations Week, we pledge to advance the cause of liberty for all people.

The Congress, by Joint Resolution approved July 17, 1959 (73 Stat. 212), has authorized and requested the President to issue a proclamation designating the third week in July of each year as “Captive Nations Week.”

NOW, THEREFORE, I, GEORGE W. BUSH, President of the United States of America, do hereby proclaim July 17 through July 23, 2005, as Captive Nations Week. I call upon the people of the United States to observe this week with appropriate ceremonies and activities and to reaffirm their commitment to all those seeking liberty, justice, and self-determination.

IN WITNESS WHEREOF, I have hereunto set my hand this fifteenth day of July, in the year of our Lord two thousand five, and of the Independence of the United States of America the two hundred and thirtieth.

B

[FR Doc. 05-14451

Filed 7-19-05; 8:45 am]

Billing code 3195-01-P